DEPARTMENT OF THE INTERIOR

Fish and Wildlife Service

[FWS-R1-R-2010-N230; 10137-1265-0000 S3]

Bandon Marsh, Nestucca Bay, and Siletz Bay National Wildlife Refuges, Coos, Tillamook, and Lincoln Counties, OR; Comprehensive Conservation Plan and Environmental Assessment

AGENCY: Fish and Wildlife Service, Interior.

ACTION: Notice of Intent; announcement of three public open house meetings; request for comments.

SUMMARY: We, the U.S. Fish and Wildlife Service (Service), intend to prepare a comprehensive conservation plan (CCP) for the Bandon Marsh, Nestucca Bay, and Siletz Bay National Wildlife Refuges (NWRs), in or near the towns of Bandon, Pacific City, Neskowin, and Lincoln City, Oregon. We will also prepare an environmental assessment (EA) to evaluate the potential effects of various CCP alternatives. We provide this notice in compliance with our CCP policy to advise other Federal and State agencies, Tribes, and the public of our intentions and to obtain suggestions and information on the scope of issues to consider during the planning process. We are also announcing public meetings and requesting public comments.

DATES: To ensure consideration, please send your written comments by December 31, 2010. We will hold public meetings to begin the CCP planning process; see Public Meetings under SUPPLEMENTARY INFORMATION for dates, times, and locations.

ADDRESSES: Send your comments or requests for more information by any of the following methods:

E-mail: oregoncoastCCP@fws.gov. Include “Bandon Marsh, Nestucca Bay, and Siletz Bay CCP” in the subject line of the message.

Fax: Attn: Project Leader, 541-867-4551.

U.S. Mail: Oregon Coast National Wildlife Refuge Complex, 2127 SE. Marine Science Drive, Newport, OR 97365.

In-Person Drop-off: You may drop off comments during regular business hours at the above address.

FOR FURTHER INFORMATION CONTACT: Roy W. Lowe, Project Leader, Oregon Coast National Wildlife Refuge Complex, 2127 SE. Marine Science Drive, Newport, OR 97365; phone (541) 867-4550, and fax (541) 867-4551.

SUPPLEMENTARY INFORMATION:

Introduction

With this notice, we initiate our process for developing a CCP for Bandon Marsh, Nestucca Bay, and Siletz Bay National Wildlife Refuges in Coos, Tillamook, and Lincoln Counties, Oregon. This notice complies with our CCP policy to (1) advise other Federal and State agencies, Tribes, and the public of our intention to conduct detailed planning on these refuges, and (2) obtain suggestions and information on the scope of issues to consider in the environmental document and during development of the CCP.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Refuge Administration Act.

Each unit of the National Wildlife Refuge System was established for specific purposes. These purposes are the foundation for developing and prioritizing the conservation and management goals and objectives for each refuge within the National Wildlife Refuge System, and determining compatible public uses for each refuge. The planning process is a way for us and the public to evaluate management goals and objectives for refuge wildlife, plant, and habitat conservation, while providing for wildlife-dependent recreation opportunities that are compatible with the refuge's establishing purposes and the mission of the National Wildlife Refuge System.

Our CCP process provides participation opportunities for Tribal, State, and local governments; agencies; organizations; and the public. At this time we encourage input in the form of issues, concerns, ideas, and suggestions for the future management of Bandon Marsh, Nestucca Bay, and Siletz Bay Refuges.

We will conduct an environmental review of this project and prepare an EA in accordance with the requirements of the National Environmental Policy Act of 1969, as amended (NEPA) (42 U.S.C. 4321 et seq.); NEPA regulations (40 CFR parts 1500-1508); other appropriate Federal laws and regulations; and our policies and procedures for compliance with those laws and regulations.

Bandon Marsh, Nestucca Bay, and Siletz Bay National Wildlife Refuges

Bandon Marsh NWR was established in 1983, with the acquisition of 289 acres of salt marsh, mudflats, and tidal sloughs. The Bandon Marsh Unit is located near the mouth of the Coquille River, with approximately 75 percent of the Unit within the city limits of Bandon, Oregon. The 582-acre Ni-les'tun Unit, established in 2000, includes 400 acres of historic salt marsh that is currently being restored to tidal action. The Ni-les'tun Unit is located on the east side of Highway 101 on the north bank of the Coquille River. The total land base of Bandon Marsh NWR is 889 acres.

The purpose for establishing Bandon Marsh NWR was “for the preservation and enhancement of the highly significant wildlife habitat of the area known as Bandon Marsh, in the estuary of the Coquille River * * * for the protection of migratory waterfowl, numerous species of shorebirds, and fish, including Chinook and silver salmon, and to provide opportunity for wildlife-oriented recreation and nature study on the marsh * * *” (95 Stat. 1709, dated Dec 29, 1981). The Ni-les'tun Unit was added to Bandon Marsh NWR in order to (1) protect and restore intertidal marsh, freshwater marsh, and riparian areas to provide a diversity of habitats for migratory birds, including waterfowl, shorebirds, wading birds, and songbirds; (2) restore intertidal marsh habitat for anadromous fish such as the threatened coho salmon, chinook, chum salmon, steelhead, and cutthroat trout; (3) protect and restore habitat for species listed under the Endangered Species Act as threatened or endangered; and (4) provide wildlife-dependent public use opportunities compatible with refuge purposes.

Nestucca Bay NWR is located near Pacific City and Neskowin in Tillamook County, Oregon. The refuge was established in 1991 with the acquisition of a 384-acre dairy farm, and has since expanded to 818.5 acres. The primary need for establishing Nestucca Bay NWR was to protect high-quality coastal habitats for dusky Canada geese and threatened Aleutian Canada geese (delisted in 2001); other endangered and threatened species; and a variety of other migratory waterfowl, shorebirds, raptors, songbirds, anadromous fish, and other wildlife while preserving part of Oregon's biodiversity. In 2002, the refuge was expanded to include the Neskowin Marsh Unit (222.6 acres acquired), located about 2.5 miles south of the Nestucca Bay Refuge Unit near the community of Neskowin, Oregon. Neskowin Marsh incorporates unique freshwater wetland and bog habitats and wildlife resources not found within the initial refuge boundary.

Siletz Bay NWR is located near Lincoln City on the central coast of Oregon. The refuge was established in 1991 with a donation of 46 acres of tidally muted salt marsh. The approved acquisition refuge boundary totals 1,936 acres and encompasses the northern tip of the Siletz spit, vegetated and unvegetated tidelands of the bay, and a portion of the diked former tidelands of the Siletz River floodplain. Approximately 1,060 acres within the authorized boundary are State-owned tidelands. Currently, refuge lands total 568 acres. The primary need for establishing this refuge was to protect coastal wetland habitats and upland buffers for a variety of waterfowl, shorebirds, marine mammals, endangered species, raptors, songbirds, fish, and other wildlife. The refuge serves to protect the remaining coastal wetlands and uplands adjacent to Siletz Bay from rapidly encroaching development, and management emphasis has been to enhance and restore wetland and upland habitats for a variety of estuarine-dependent fish and wildlife species.

Scoping: Preliminary Issues, Concerns, and Opportunities

We have identified preliminary issues, concerns, and opportunities that we may address in the CCP. We have briefly summarized these issues below. During public scoping, we may identify additional issues.

Bandon Marsh NWR Preliminary Issues: What actions should the Service take to sustain and restore priority species and habitats on this refuge over the next 15 years? Based upon the refuge's priority fish and wildlife species, which habitats would be monitored and managed to control invasive species? What management options should the refuge consider for restoration of the degraded upland forest and grassland? What possibilities exist for enhancing existing or adding additional wildlife-dependent recreational opportunities, including wildlife observation trails and/or photography points? Which areas/habitats of the refuge should be managed as undisturbed wildlife sanctuary areas (closed to the public) and which areas should be open to public use? Should the refuge consider changes to the Bandon Marsh NWR waterfowl hunting program? Would allowing hunting and other wildlife-dependent recreational uses in new areas (e.g., Ni-les'tun Unit) have detrimental effects on the refuge's ability to provide adequate undisturbed quality wintering habitat for waterfowl and other wildlife? Is there enough use of the refuge by migrating waterfowl to provide a quality hunting program?

Nestucca Bay NWR Preliminary Issues: What actions should the Service take to sustain and restore priority species and habitats on this refuge over the next 15 years? Based upon the refuge's priority fish and wildlife species, which are the priority habitats to monitor for invasive species, and what is the range of Integrated Pest Management strategies that should be considered to reduce the incidence and spread of invasive species? Should the Service consider restoring some pastures at Nestucca Bay NWR to tidal marsh, and what effect would this have on the refuge's ability to provide wintering habitat for geese and reduce goose depredation on neighboring private lands? Should the Cannery Hill Unit at Nestucca Bay NWR be managed specifically to restore former coastal prairie, and if so, how much emphasis should be placed on specific needs of the threatened Oregon silverspot butterfly within a larger coastal prairie restoration plan? What options should be considered for the old roadbed through Neskowin Marsh (tsunami escape route) if it is found to be impacting water flows through Neskowin Marsh? Should the Service consider designating Neskowin Marsh as a Research Natural Area? What possibilities exist for adding or enhancing existing wildlife-dependent recreational opportunities on Nestucca Bay NWR? Are existing refuge access points and uses adequate and do they provide a quality experience? Should the refuge consider establishing waterfowl hunting programs at Nestucca Bay NWR? Can the level of migrating waterfowl use on Nestucca Bay NWR support a quality hunting program?

Siletz Bay NWR Preliminary Issues: What actions should the Service take to sustain and restore priority species and habitats on this refuge over the next 15 years? Based upon the refuge's priority fish and wildlife species, which habitats are most important to monitor for invasive species? What partnering possibilities exist for treatment of aquatic invasive species such as smooth cordgrass and New Zealand mud snail? Can wetlands currently hampered by fish passage barriers and other issues be restored, and if so, how should the Service prioritize them? What opportunities exist for adding or enhancing existing wildlife-dependent recreational opportunities and access points? Which areas of the refuge should be managed as undisturbed sanctuary areas and which areas should be considered for public access? Should the refuge consider establishing a waterfowl hunting program at Siletz Bay NWR? Would waterfowl hunting and other wildlife-dependent recreational activities have detrimental effects on the refuge's ability to provide adequate undisturbed quality wintering habitat for waterfowl? Is there enough use of the refuge by migrating waterfowl to support a quality hunting program? Should the refuge consider enhancing the currently offered seasonal opportunities to observe wildlife via guided canoe/kayak excursion through the refuge?

Public Meetings

We will hold the following public meetings. For more information, contact the person under FOR FURTHER INFORMATION CONTACT.

Date | Time | Location
November 29, 2010 | 6-9 p.m. | Lincoln City Community Center, 2150 NE. Oar Place, Lincoln City, OR 97367.
November 30, 2010 | 6-9 p.m. | Kiawanda Community Center, 34600 Cape Kiawanda Drive, Pacific City, OR 97135.
December 2, 2010 | 6-9 p.m. | Bandon Community Center, 1200 11th Street SW., Bandon, OR 97411.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: October 28, 2010.
Theresa E. Rabot,
Acting Regional Director, Region 1, Portland, Oregon.

[FR Doc. 2010-30063 Filed 11-26-10; 8:45 am]

BILLING CODE 4310-55-P